POSTAL SERVICE

39 CFR Part 111

Optional 5-Digit/3-Digit/ADC Sortation

AGENCY: Postal Service™.

ACTION: Proposed rule.

SUMMARY: The Postal Service is proposing to amend Mailing Standards of the United States Postal Service, Domestic Mail Manual (DMM®) to change the standards for First Class Mail® and USPS Marketing Mail® flats from a “required” 5-digit, 3-digit, and ADC preparation to an “optional” preparation.

DATES: Submit comments on or before March 7, 2025.

ADDRESSES: Mail or deliver written comments to the Director, Product Classification, U.S. Postal Service, 475 L'Enfant Plaza SW, Room 4446, Washington, DC 20260-5015. If sending comments by email, include the name and address of the commenter and send to PCFederalRegister@usps.gov, with a subject line of “Optional 5-Digit/3-Digit/ADC Sortation”. Faxed comments are not accepted.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Dale Kennedy at (202) 268-6592 or Doriane Harley at (202) 268-2537.

SUPPLEMENTARY INFORMATION: All submitted comments and attachments are part of the public record and subject to disclosure. Do not enclose any material in your comments that you consider to be confidential or inappropriate for public disclosure.

Currently, the standards in DMM sections 235 and 245 require mailers of First Class Mail and USPS Marketing Mail flats to make a 5-digit, 3-digit, and ADC bundle and tray preparation.

The Postal Service is proposing to amend the standards in DMM sections 235 and 245 to make the 5-digit, 3-digit, and ADC preparation “optional” when preparing bundles and trays of First Class Mail and USPS Marketing Mail flats.

The Postal Service is proposing to implement this change effective May 1, 2025.

We believe that the proposed revisions will encourage mailers to create full flat trays of flat mail and will reduce the volume of bundles entered into the mailstream.

Although exempt from the notice and comment requirements of the Administrative Procedure Act (5 U.S.C. 553(b), (c)) regarding proposed rulemaking by 39 U.S.C. 410(a), the Postal Service invites public comment on the proposed revisions to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Cards, Flats, and Parcels

* * * * *

230 Commercial Mail First-Class Mail

* * * * *

235 Mail Preparation

* * * * *

7.0 Preparation of Nonautomation Flats

* * * * *

7.4 Bundling and Labeling

* * * * *

[Revise the text of items (a) through (c) to read as follows:]

a. 5-digit (optional); 10-piece minimum; red Label 5 or optional endorsement line (OEL).

b. 3-digit (optional); 10-piece minimum; green Label 3 or OEL.

c. ADC (optional); 10-piece minimum; pink Label A or OEL.

* * * * *

7.5 Traying and Labeling

* * * * *

[Revise the first paragraph of item (a) to read as follows:]

a. 5-digit (optional); full trays (no overflow); labeling: * * *

[Revise the first paragraph of item (b) to read as follows:]

b. 3-digit (optional); full trays (no overflow), except for one less-than-full tray for each origin 3-digit(s); labeling: * * *

c. ADC (optional); full trays (no overflow); labeling: * * *

* * * * *

8.0 Preparation of Automation Flats

* * * * *

8.5 First-Class Mail Required Bundle-Based Preparation

8.5.1 Bundling and Labeling

Preparation sequence, bundle size (except as allowed under 203.4.12), and labeling:

* * * * *

[Revise the text of items (b) through (d) to read as follows:]

b. 5-digit (optional); 10-piece minimum; red Label 5 or optional endorsement line (OEL).

c. c. 3-digit (optional); 10-piece minimum; green Label 3 or OEL.

d. d. ADC (optional); 10-piece minimum; pink Label A or OEL.

* * * * *

8.5.2 Traying and Labeling

Preparation sequence, tray size, and labeling:

* * * * *

[Revise the first paragraph of item (a) to read as follows:]

a. 5-digit (optional); full trays (no overflow); labeling: * * *

[Revise the first paragraph of item (b) to read as follows:]

b. 3-digit (optional); full trays (no overflow); labeling: * * *

* * * * *

[Revise the first paragraph of item (d) to read as follows:]

d. ADC (optional); full trays (no overflow); labeling: * * *

* * * * *

8.6 First-Class Mail Optional Tray-Based Preparation

Tray size, preparation sequence, and Line 1 labeling:

* * * * *

[Revise the text of item (a) to read as follows:]

a. 5-digit: optional (90-piece minimum); one less-than-full or overflow tray allowed; for Line 1, use city, state, and 5-digit ZIP Code destination of pieces (for military mail see 4.0). (Preparation to qualify for 5-digit price is optional and need not be done for all 5-digit destinations.)

[Revise the text of item (b) to read as follows:]

b. 3-digit: optional (90-piece minimum); one less-than-full or overflow tray allowed; for Line 1, use L002, Column A for 3-digit destinations.

* * * * *

[Revise the first sentence of item (d) to read as follows:]

d. ADC: optional (90-piece minimum); one less-than-full or overflow tray allowed; group pieces by 3-digit ZIP Code prefix; for Line 1, use L004. * * *

* * * * *

240 Commercial Mail USPS Marketing Mail

* * * * *

245 Mail Preparation

* * * * *

8.0 Preparing Nonautomation Flats

* * * * *

8.3 Bundling and Labeling

* * * * *

[Revise the first paragraph of item (b) to read as follows:]

b. 5-digit (optional), see definition in 1.4j: * * *

* * * * *

[Revise the text of items (d) and (e) to read as follows:]

d. 3-digit (optional), see definition in 1.4o; 10-piece minimum; green Label 3 or OEL.

e. ADC (optional); 10-piece minimum; pink Label A or OEL.

* * * * *

8.6 Traying, Sacking, and Labeling

* * * * *

[Revise the first paragraph of item (a) to read as follows:]

a. 5-digit/scheme; scheme sort required before 5-digit sort, 5-digit sort optional, only for pieces meeting the automation flats criteria in 201.6.0, see definition in 1.4j; full flat tray; 125-piece, or 15-pound minimum; labeling: * * *

[Revise the first paragraph of item (b) to read as follows:]

b. 3-digit (optional); full flat tray; 125-piece, or 15-pound minimum; labeling: * * *

* * * * *

[Revise the first paragraph of item (d) to read as follows:]

d. ADC (optional); full flat tray; 125-piece, or 15-pound minimum; labeling: * * *

* * * * *

10.0 Preparing Automation Flats

* * * * *

10.4 USPS Marketing Mail Bundle and Flat-Tray Preparation

10.4.1 Bundling and Labeling

* * * * *

[Revise the first paragraph of item (b)

b. 5-digit presort (optional); see definition in 1.4g: * * *

[Revise the text of items (d) and (e) to read as follows:]

d. 3-digit presort (optional); see definition in 1.4n; 10-piece minimum; green Label 3 or OEL.

e. ADC (optional); 10-piece minimum; pink Label A or OEL.

* * * * *

10.4.3 Traying, Sacking, and Labeling

* * * * *

[Revise the first paragraph of item (a) to read as follows:]

a. 5-digit/scheme; scheme sort required before 5-digit sort, 5-digit sort optional; see definition in 1.4g; full flat tray, 125-piece, or 15-pound minimum, labeling: * * *

[Revise the first paragraph of item (b) to read as follows:]

b. 3-digit (optional); full flat tray, 125-piece or 15-pound minimum; labeling: * * *

* * * * *

[Revise the first paragraph of item (d) to read as follows:]

d. ADC (optional); full flat tray, 125-piece, or 15-pound minimum; labeling: * * *

* * * * *

Kevin Rayburn,
Attorney, Ethics & Legal Compliance.

[FR Doc. 2025-02212 Filed 2-4-25; 8:45 am]

BILLING CODE P